DEPARTMENT OF TRANSPORTATION

Federal Highway Administration

Reports, Forms and Recordkeeping Requirements Agency Information Collection Activity Under OMB Review

AGENCY: Federal Highway Administration, DOT.

ACTION: Notice.

SUMMARY: In compliance with the Paperwork Reduction Act of 1995 (44 U.S.C. 3501, et seq.), this notice announces that the information collection request abstracted below has been forwarded to the Office of Management and Budget (OMB) for approval. The information collection package describes the nature of the information collection and its expected burden.

DATES: Comments must be submitted on or before July 24, 2000.

FOR FURTHER INFORMATION CONTACT: James Ware, (202) 366-2019, Office of Real Estate Services, Federal Highway Administration, 400 7th Street, SW., Washington, DC 20590-0001. Office hours are from 7:30 a.m. to 4 p.m., e.t., Monday through Friday, except Federal holidays.

SUPPLEMENTARY INFORMATION: Title: State Right-of-Way Operations Manuals.

Type of Request: New information collection, OMB Number 2125-XXXX.

Abstract: The Federal Highway Administration (FHWA) issued a notice of proposed rulemaking on December 24, 1998, and a final rule for the Right-of-Way Program on December 21, 1999, that revised the rules governing the use of Federal-aid funds for right-of-way acquisition, property management, and project development. The regulation reduces Federal regulatory requirements and places primary responsibility for a number of approval actions at the state level. The State Right-of-Way Manuals have been used through the years to describe how the State Departments of Transportation (STD) plan to perform real estate acquisition, property management, and maintain the integrity of the highway and related transportation systems. These manuals will need to be revised to reflect the revisions contained in the FHWA final rule. The STDs will be required to update their manuals to reflect the changes in Federal requirements for programs administered under Title 23 U.S.C., and to submit their manuals to FHWA for approval.

Estimated Total Annual Burden: 4,000 total hours for the STDs in the 50 States, the District of Columbia and Puerto Rico.

Frequency: Each State will submit its updated Right-of-Way manual to FHWA for approval by January 1, 2001, and afterwards will certify at five-year intervals that the manual represents its current procedures or submit an updated manual.

ADDRESSES: Send comments to the Office of Information and Regulatory Affairs, Office of Management and Budget, 725 17th Street, NW., Washington, DC 20503 Attention: DOT Desk Officer. Comments are invited on: (1) Whether the proposed collection of information is necessary for the proper performance of the functions of the Department, including whether the information will have practical utility; (2) the accuracy of the Department's estimate of the burden of the proposed information collection; (3) ways to enhance the quality, utility and clarity of the information to be collected; and (4) ways to minimize the burden of the collection of information on respondents, including the use of automated collection techniques or other forms of information technology. A comment to OMB is most effective if OMB receives it within 30 days of publication of this Notice.

Issued on: June 16, 2000.
James Kabel,
Chief, Management Programs and Analysis Division.

[FR Doc. 00-15845 Filed 6-21-00; 8:45 am]

BILLING CODE 4910-22-P